DEPARTMENT OF ENERGY

Federal Energy Regulatory Commission

Combined Notice of Filings #1

November 27, 2007.

Take notice that the Commission received the following electric corporate filings:

Docket Numbers: EC08-17-000.

Applicants: Thermo Cogeneration Partnership L.P.

Description: Thermo Cogeneration Partnership, LP et al., submits an application seeking to expedite all necessary authorizations for the indirect disposition of jurisdictional facilities that will result from the sale and transfer of shares, etc.

Filed Date: 11/20/2007.

Accession Number: 20071123-0114.

Comment Date: 5 p.m. Eastern Time on Tuesday, December 11, 2007.

Take notice that the Commission received the following electric rate filings:

Docket Numbers: ER97-324-010; ER97-3834-016.

Applicants: Detroit Edison Company.

Description: The Detroit Edison Co., et al., submits revisions to its tariff to Removal of Section 9, Reporting Changes in Status, since the change in status reporting requirement has been incorporated into section 35.42, etc.

Filed Date: 11/19/2007.

Accession Number: 20071121-0028.

Comment Date: 5 p.m. Eastern Time on Monday, December 10, 2007.

Docket Numbers: ER07-1232-002.

Applicants: UniSource Energy Development Company.

Description: UniSource Energy Development Company submits Exhibit A Substitute Original Sheet 1 to FERC Gas Tariff, Original Volume 1 and a redlined version of the Revised Sheet, showing the changes made, etc.

Filed Date: 11/26/2007.

Accession Number: 20071127-0037.

Comment Date: 5 p.m. Eastern Time on Monday, December 17, 2007.

Docket Numbers: ER07-1071-001; ER07-1072-001.

Applicants: PJM Interconnection, LLC.

Description: PJM Interconnection LLC and Virginia Electric and Power Co., submits an amendment to its 6/22/07 filing, etc.

Filed Date: 11/19/2007.

Accession Number: 20071121-0055.

Comment Date: 5 p.m. Eastern Time on Monday, December 10, 2007.

Docket Numbers: ER07-1071-002; ER07-1072-002.

Applicants: PJM Interconnection, LLC.

Description: Response of Virginia Electric and Power Company to August 20, 2007 Deficiency Letter.

Filed Date: 11/19/2007.

Accession Number: 20071119-5103.

Comment Date: 5 p.m. Eastern Time on Monday, December 10, 2007.

Docket Numbers: ER08-23-001.

Applicants: Massie Power LLC.

Description: Massie Power LLC submits Substitute Original Sheet 1, et al., to FERC Electric Tariff, Original Volume 1.

Filed Date: 11/21/2007.

Accession Number: 20071123-0010.

Comment Date: 5 p.m. Eastern Time on Wednesday, December 12, 2007.

Docket Numbers: ER08-119-001.

Applicants: Florida Power & Light Company.

Description: Florida Power & Light Co., submits Substitute Original Sheet 6 of Rate Schedule 308 as an errata.

Filed Date: 11/20/2007.

Accession Number: 20071123-0007.

Comment Date: 5 p.m. Eastern Time on Tuesday, December 11, 2007.

Docket Numbers: ER08-193-001.

Applicants: Pacific Gas and Electric Company.

Description: Southern California Edison Company submits a Certificate of Concurrence for Pacific Gas and Electric Company on 11/6/07.

Filed Date: 11/23/2007.

Accession Number: 20071127-0036.

Comment Date: 5 p.m. Eastern Time on Friday, December 14, 2007.

Docket Numbers: ER08-242-000.

Applicants: Southwest Power Pool, Inc.

Description: Southwest Power Pool, Inc., submits revisions to its tariff to modify the Energy Imbalance Service Market.

Filed Date: 11/20/2007.

Accession Number: 20071123-0006.

Comment Date: 5 p.m. Eastern Time on Tuesday, December 11, 2007.

Docket Numbers: ER08-243-000.

Applicants: Southern Power Company.

Description: Southern Power Company requests authorization to make market-based rate wholesale power sales to its affiliate.

Filed Date: 11/20/2007.

Accession Number: 20071123-0015.

Comment Date: 5 p.m. Eastern Time on Tuesday, December 11, 2007.

Docket Numbers: ER08-244-000.

Applicants: PacifiCorp.

Description: PacifiCorp submits a Revised Network Integration Transmission Service Agreement with Bonneville Power Administration, et al. Filed Date: 11/21/2007.

Accession Number: 20071123-0005.

Comment Date: 5 p.m. Eastern Time on Wednesday, December 12, 2007.

Docket Numbers: ER08-245-000.

Applicants: PacifiCorp.

Description: PacifiCorp submits an Network Integration Transmission Service Agreement with Bonneville Power Administration, etc.

Filed Date: 11/21/2007.

Accession Number: 20071123-0004.

Comment Date: 5 p.m. Eastern Time on Wednesday, December 12, 2007.

Docket Numbers: ER08-246-000.

Applicants: E.ON U.S., LLC.

Description: E.ON U.S., LLC et al., submits an unexecuted Network Integration Transmission Service Agreement.

Filed Date: 11/21/2007.

Accession Number: 20071123-0003.

Comment Date: 5 p.m. Eastern Time on Wednesday, December 12, 2007.

Docket Numbers: ER08-247-000.

Applicants: Wisconsin Public Service Corporation.

Description: Wisconsin Public Service Corp., submits the changes in depreciations rates for wholesale production service.

Filed Date: 11/20/2007.

Accession Number: 20071123-0008.

Comment Date: 5 p.m. Eastern Time on Tuesday, December 11, 2007.

Docket Numbers: ER08-250-000.

Applicants: Langdon Wind, LLC.

Description: Request for authorization to sell energy and capacity at market-based rates, and waiver of the 60-day notice requirement for Langdon Wind, LLC.

Filed Date: 11/21/2007.

Accession Number: 20071126-0218.

Comment Date: 5 p.m. Eastern Time on Wednesday, December 12, 2007.

Docket Numbers: ER08-251-000.

Applicants: PJM Interconnection, L.L.C.

Description: PJM Interconnection, LLC submits an executed interconnection service agreement with Industrial Power Generating Co., LLC et al.

Filed Date: 11/21/2007.

Accession Number: 20071126-0215.

Comment Date: 5 p.m. Eastern Time on Wednesday, December 12, 2007.

Docket Numbers: ER08-252-000.

Applicants: PJM Interconnection, L.L.C.

Description: PJM Interconnection, LLC submits an executed Wholesale Market Participation Agreement with PPL Shoreham Energy, LLC et al.

Filed Date: 11/23/2007.

Accession Number: 20071126-0214.

Comment Date: 5 p.m. Eastern Time on Friday, December 14, 2007.

Docket Numbers: ER08-255-000.

Applicants: Pacific Gas and Electric Company.

Description: Offer of Settlement and Stipulation and Appendices re PacifiCorp, Pacific Gas and Electric Co et al. under ER07-882 et al.

Filed Date: 11/21/2007.

Accession Number: 20071121-0123.

Comment Date: 5 p.m. Eastern Time on Friday, December 7, 2007.

Take notice that the Commission received the following electric securities filings:

Docket Numbers: ES07-52-001.

Applicants: Northern Indiana Public Service Company.

Description: Northern Indiana Public Service Company submit a supplement to Exhibit 1 and on 11/27/07 submit an additional supplement.

Filed Date: 11/26/2007; 11/27/2007.

Accession Number: 20071126-5013; 20071127-5011.

Comment Date: 5 p.m. Eastern Time on Thursday, December 6, 2007.

Docket Numbers: ES07-57-001.

Applicants: Northeast Utilities Service Company.

Description: Supplemental Filing of Northeast Utilities Service Company.

Filed Date: 11/21/2007.

Accession Number: 20071121-5146.

Comment Date: 5 p.m. Eastern Time on Thursday, December 6, 2007.

Docket Numbers: ES07-63-001.

Applicants: ITC Midwest LLC.

Description: ITC Midwest LLC Submission of Exhibit B.

Filed Date: 10/04/2007.

Accession Number: 20071004-5037.

Comment Date: 5 p.m. Eastern Time on Thursday, November 29, 2007.

Docket Numbers: ES08-6-000.

Applicants: Southwestern Electric Power Company.

Description: Form 523—Request for Permission to Issue Securities of Southwestern Electric Power Company.

Filed Date: 11/26/2007.

Accession Number: 20071126-5059.

Comment Date: 5 p.m. Eastern Time on Monday, December 17, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E7-23329 Filed 11-30-07; 8:45 am]

BILLING CODE 6717-01-P